DEPARTMENT OF COMMERCE

International Trade Administration

University of California Los Angeles, et al.; Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Comments: None received. Decision: Approved. We know of no instruments of equivalent scientific value to the foreign instruments described below, for such purposes as each is intended to be used, that was being manufactured in the United States at the time of its order.

Docket Number: 14-012. Applicant: University of California Los Angeles, Los Angeles, CA 90095. Instrument: iCorr (Correlative Microscopy). Manufacturer: FEI Company, Czech Republic. Intended Use: See notice at 79 FR 64367, October 29, 2014. Comments: None received. Decision: Approved. We know of no instruments of equivalent scientific value to the foreign instruments described below, for such purposes as this is intended to be used, that was being manufactured in the United States at the time of order. Reasons: The instrument will be used to perform correlative microscopy of biological samples from micro to nanometer scales, using fluorescence light microscopy and cryo electron microscopy, used in conjunction to reveal dynamics and functionalities of the materials.

Docket Number: 14-026. Applicant: Stanford University, Stanford, CA 94305. Instrument: iMIC Digital Microscope 2.0 system full set (0000-530-25032). Manufacturer: FEI Munich (formerly TILL Photonics), Germany. Intended Use: See notice at 79 FR 64367, October 29, 2014. Comments: None received. Decision: Approved. We know of no instruments of equivalent scientific value to the foreign instruments described below, for such purposes as this is intended to be used, that was being manufactured in the United States at the time of order. Reasons: The instrument will be used to perform high-speed imaging and simultaneous large volume data processing of cultured neurons from rats and mice growing in special made PDMS microfluidic chambers. A fluorescent microscopy system which is able to scan and acquire large amounts of images at high speeds is required, as well as the system being able to maintain stable focus plane over a long time-lapse recording.

Docket Number: 14-027. Applicant: Howard Hughes Medical Institute, Chevy Chase, MD 20815. Instrument: JEM-1400 Transmission Electron Microscope. Manufacturer: JEOL Ltd., Japan. Intended Use: See notice at 79 FR 64367, October 29, 2014. Comments: None received. Decision: Approved. We know of no instruments of equivalent scientific value to the foreign instruments described below, for such purposes as this is intended to be used, that was being manufactured in the United States at the time of order. Reasons: The instrument will be used to research and discover the genetic pathways of various neurological diseases, using tissue samples from animal models which are examined for changes in their subcellular organelles that are believed to result from the effects of the diseases.

Docket Number: 14-028. Applicant: University of Colorado Boulder, Boulder, CO 80309. Insrument: Fiberoptic Cable. Manufacturer: Ceramoptec Gmbh, Germany. Intended Use: See notice at 79 FR 64367, October 29, 2014. Comments: None received. Decision: Approved. We know of no instruments of equivalent scientific value to the foreign instruments described below, for such purposes as this is intended to be used, that was being manufactured in the United States at the time of order. Reasons: The instrument will be used to pursue a research path towards constructing an off grid toilet that converts human waste into fertilizer or solid fuel, using solar energy transmitted by fiberoptic cable to a reaction chamber. A fiberoptic cable that is able to withstand high temperatures (300-700 degrees C) without a high transmission loss is required.

Docket Number: 14-029. Applicant: Howard Hughes Medical Institute, Chevy Chase, MD 20815. Instrument: KonTEM PhazR System. Manufacturer: KonTEM GmbH, Germany. Intended Use: See notice at 79 FR 64367, October 29, 2014. Comments: None received. Decision: Approved. We know of no instruments of equivalent scientific value to the foreign instruments described below, for such purposes as this is intended to be used, that was being manufactured in the United States at the time of order. Reasons: The instrument will be attached to an electron microscope, in place of one of the apertures. It will be inserted into the electron beam path to enhance image contrast for the imaging of proteins such as ion channels.

Dated: December 15, 2014.
Gregory W. Campbell,
Director, Subsidies Enforcement Office, Enforcement and Compliance.

[FR Doc. 2014-30069 Filed 12-22-14; 8:45 am]

BILLING CODE 3510-DS-P